DEPARTMENT OF AGRICULTURE

Forest Service

Tehama County Resource Advisory Committee

AGENCY: Forest Service, USDA.

ACTION: Notice of meeting.

SUMMARY: The Tehama County Resource Advisory Committee (RAC) will hold its next meeting.

DATES: The meeting will be held on August 8, 2002, and will begin at 9 a.m. and end at approximately 12 p.m.

ADDRESSES: The meeting will be held at the Lincoln Street School, Conference Room A, 1135 Lincoln Street, Red Bluff, CA.

FOR FURTHER INFORMATION CONTACT: Bobbin Gaddini, Committee Coordinator, USDA, Mendocino National Forest, Grindstone Ranger District, PO Box 164, Elk Creek, CA 95939. (530) 968-5329; e-mail ggaddini@fs.fed.us.

SUPPLEMENTARY INFORMATION: Agenda items to be covered include: (1) Introductions, (2) Approval of Minutes, (3) Public Comment, (4) Other Project Proposals/Possible Action, (5) Sunflower Coordinated Resource Presentation/Possible Action, (6) Valentine Ridge Project Proposal/Possible Action, (7) General Discussion. The meeting is open to the public. Public input opportunity will be provided and individuals will have the opportunity to address the Committee at that time.

Dated: July 22, 2002.
James F. Giachino,
Designated Federal Official.

[FR Doc. 02-18947 Filed 7-25-02; 8:45 am]

BILLING CODE 3410-11-M